FEDERAL COMMUNICATIONS COMMISSION

47 CFR Part 73

[DA 09-440; MB Docket No. 05-67; RM-11116, RM-11342]

Radio Broadcasting Services; Clinton, Fishers, Indianapolis, and Lawrence, IN

AGENCY: Federal Communications Commission.

ACTION: Final rule, denial of petition for reconsideration.

SUMMARY: This document denies a Petition for Reconsideration filed by Word Power, Inc., directed to the Report and Order in this proceeding, which had denied Word Power's counterproposal and had granted a mutually exclusive rulemaking petition. See SUPPLEMENTARY INFORMATION, infra.

FOR FURTHER INFORMATION CONTACT: Andrew Rhodes, Media Bureau (202) 418-2700.

SUPPLEMENTARY INFORMATION: This is a synopsis of the Memorandum Opinion and Order in MB Docket No. 05-67, adopted February 25, 2009, and released February 27, 2009. The full text of this decision is available for inspection and copying during normal business hours in the FCC Reference Information Center at Portals II, CY-A257, 445 12th Street, SW., Washington, DC 20554. The complete text of this decision may also be purchased from the Commission's copy contractor, Best Copy and Printing, Inc., 445 12th Street, SW., Room CY-B402, Washington, DC 20554, telephone 1-800-378-3160 or http://www.BCPIWEB.com.

The Report and Order granted a rulemaking petition, inter alia, to substitute Channel 230B1 for Channel 230A at Fishers, Indiana, to reallot Channel 230B1 to Lawrence, Indiana, and to modify the license for Station WRWM to specify Lawrence as the community of license. To accommodate this reallotment, Word Power's Station WPFR-FM, Clinton, Indiana, was ordered to change its frequency from Channel 230A to Channel 229A. The Report and Order also denied Word Power's counterproposal to upgrade its Station WPFR-FM from Channel 230A to Channel 230B1. See 72 FR 53687, September 20, 2007.

The Memorandum Opinion and Order found that the Report and Order did not err by (1) not discussing the applicability of the Tuck factors regarding whether Lawrence is sufficiently independent of Indianapolis to warrant consideration as a first local service; and (2) not specifically requiring the reimbursement to Word Power for the costs of changing channels. The document reasoned that a Tuck analysis is not required in this situation where a station is moving from one community to another inside an urbanized area. Likewise, a reimbursement condition is not necessary given the repeated assertions by the initial rulemaking petitioners that they will reimburse Word Power for the reasonable expenses related to the Station WPFR-FM facility modification. Finally, the Memorandum Opinion and Order rejected Word Power's argument that the staff had inadequately inquired into the possible premature construction of the upgraded WRWM facilities at Lawrence.

The Commission will not send a copy of this Memorandum Opinion and Order to GAO pursuant to the Congressional Review Act, see 5 U.S.C. 801(a)(1)(A), because the Petition for Reconsideration was denied.

List of Subjects in 47 CFR Part 73

Radio, Radio broadcasting.

Federal Communications Commission.
John A. Karousos,
Assistant Chief, Audio Division, Media Bureau.

[FR Doc. E9-5399 Filed 3-11-09; 8:45 am]

BILLING CODE 6712-01-P